DEPARTMENT OF TRANSPORTATION

Federal Aviation Administration

14 CFR Part 97

[Docket No. 30629; Amdt. No 3288]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 14, 2008. The compliance date for each SIAP, associated Takeoff Minimums, and ODP is specified in the amendatory provisions.

The incorporation by reference of certain publications listed in the regulations is approved by the Director of the Federal Register as of October 14, 2008.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169, or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPs. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedures before adopting these SIAPs, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on September 19, 2008.
James J. Ballough,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 23 OCT 2008

Lakeland, FL, Lakeland Linder Regional, NDB RWY 5, Amdt 4

Lakeland, FL, Lakeland Linder Regional, VOR RWY 9, Amdt 4

Effective 20 NOV 2008

Bethel, AK, Bethel, ILS OR LOC/DME RWY 19R, Amdt 6

Bethel, AK, Bethel, LOC/DME BC RWY 1L, Amdt 6

Bethel, AK, Bethel, RNAV (GPS) RWY 1L, Amdt 1

Bethel, AK, Bethel, RNAV (GPS) RWY 19R, Amdt 1

Bethel, AK, Bethel, RNAV (GPS)-A, Amdt 1

Bethel, AK, Bethel, Takeoff Minimums and Obstacle DP, Amdt 3

Bethel, AK, Bethel, VOR/DME RWY 1L, AMDT 2

Bethel, AK, Bethel, VOR/DME RWY 19R, AMDT 2

Napakiak, AK, Napakiak, RNAV (GPS) RWY 16, Orig

Napakiak, AK, Napakiak, RNAV (GPS) RWY 34, Orig

Napakiak, AK, Napakiak, Takeoff Minimums and Obstacle DP, Orig

Shageluk, AK, Shageluk, RNAV (GPS) RWY 16, Orig

Shageluk, AK, Shageluk, RNAV (GPS) RWY 34, Orig

Shageluk, AK, Shageluk, Takeoff Minimums and Obstacle DP, Orig

Jacksonville, FL, Craig Muni, ILS OR LOC RWY 32, Amdt 4

Jacksonville, FL, Craig Muni, RNAV (GPS) RWY 14, Orig

Jacksonville, FL, Craig Muni, RNAV (GPS) RWY 32, Orig

Jacksonville, FL, Craig Muni, Takeoff Minimums and Obstacle DP, Amdt 3

Jacksonville, FL, Craig Muni, VOR RWY 14, Amdt 4

Jacksonville, FL, Craig Muni, VOR/DME RWY 32, Amdt 2

Miami, FL, Kendall-Tamiami Executive, ILS OR LOC RWY 9R, Amdt 10

Miami, FL, Kendall-Tamiami Executive, RNAV (GPS) RWY 9R, Amdt 1

Miami, FL, Kendall-Tamiami Executive, Takeoff Minimums and Obstacle DP, Amdt 7

Mattoon/Charleston, IL, Coles County Memorial, RNAV (GPS) RWY 29, Orig

Mount Vernon, IL, Mount Vernon, GPS RWY 5, Orig-A, CANCELLED

Mount Vernon, IL, Mount Vernon, GPS RWY 23, Orig, CANCELLED

Mount Vernon, IL, Mount Vernon, RNAV (GPS) RWY 5, Orig

Mount Vernon, IL, Mount Vernon, RNAV (GPS) RWY 23, Orig

Morehead, KY, Morehead-Rowan County Clyde A Thomas Rgnl, RNAV (GPS) RWY 2, Orig

Morehead, KY, Morehead-Rowan County Clyde A Thomas Rgnl, RNAV (GPS) RWY 20, Orig

Morehead, KY, Morehead-Rowan County Clyde A Thomas Rgnl, Takeoff Minimums and Obstacle DP, Orig

Mitchellville, MD, Freeway, VOR RWY 36, Orig-B, CANCELLED

Traverse City, MI, Cherry Capital, RNAV (GPS) RWY 10, Orig

Cape Girardeau, MO, Cape Girardeau Rgnl, ILS OR LOC RWY 10, Amdt 11

Cape Girardeau, MO, Cape Girardeau Rgnl, LOC/DME BC RWY 28, Amdt 7

Hattiesburg, MS, Hattiesburg Bobby L. Chain Muni, VOR RWY 13, Amdt 12

Jackson, MS, Hawkins Field, GPS RWY 16, Orig, CANCELLED

Jackson, MS, Hawkins Field, GPS RWY 34, Orig, CANCELLED

Jackson, MS, Hawkins Field, RNAV (GPS) RWY 16, Orig

Jackson, MS, Hawkins Field, RNAV (GPS) RWY 34, Orig

Carson City, NV, Carson, RNAV (GPS)-A, Orig

Carson City, NV, Carson, Takeoff Minimums and Obstacle DP, Orig

New York, NY, LaGuardia, Takeoff Minimums and Obstacle DP, Amdt 8

Newburgh, NY, Stewart Intl, Takeoff Minimums and Obstacle DP, Amdt 5

McMinnville, OR, McMinnville Muni, Takeoff Minimums and Obstacle DP, Amdt 4

McMinnville, OR, McMinnville Muni, VOR/DME-B, Amdt 6

Ontario, OR, Ontario Muni, Takeoff Minimums and Obstacle DP, Amdt 3

State College, PA, University Park, ILS OR LOC RWY 24, Amdt 9

State College, PA, University Park, RNAV (GPS) RWY 6, Amdt 1

State College, PA, University Park, RNAV (GPS) RWY 24, Orig

State College, PA, University Park, VOR-B, Amdt 10

Lebanon, TN, Lebanon Muni, GPS RWY 19, Orig, CANCELLED

Lebanon, TN, Lebanon Muni, NDB RWY 19, Amdt 1

Lebanon, TN, Lebanon Muni, RNAV (GPS) RWY 19, Orig

Ogden, UT, Ogden-Hinckley, VOR/DME RWY 7, Amdt 6

Richlands, VA, Tazewell County, LOC/DME RWY 25, Orig

Ellensburg, WA, Bowers Field, VOR-B, Amdt 3

Pasco, WA, Tri-Cities, VOR/DME RWY 30, Amdt 3

Correction: On September 11, 2008 (73 FR 52779), the FAA published an Amendment in Docket No. 30624, Amdt No. 3284 to Part 97 of the Federal Aviation Regulations under section 97.29. The 1st entry for Pittsburgh, PA, Pittsburgh Intl, effective September 25, 2008, is hereby corrected to read as follows:

Pittsburgh, PA, Pittsburgh Intl, CONVERGING ILS RWY 28R, Amdt 4, CANCELLED

Rescinded: On August 7, 2008 (73 FR 45861), the FAA published an Amendment in Docket No. 30620, Amdt No. 3280 to Part 97 of the Federal Aviation Regulations under section 97.25. The following entry, effective September 25, 2008, is hereby rescinded in its entirety:

Ketchikan, AK, Ketchikan Intl, ILS OR LOC/DME Y RWY 11, Amdt 7

[FR Doc. E8-23913 Filed 10-10-08; 8:45 am]

BILLING CODE 4910-13-P